DEPARTMENT OF AGRICULTURE

Forest Service

Opal Creek Scenic Recreation Area (SRA) Advisory Council

AGENCY: Forest Service, USDA.

ACTION: Notice of meeting.

SUMMARY: The Opal Creek Scenic Recreation Area Advisory Council is participating in a field tour on July 23, 2005. The field trip is scheduled to begin at 10 a.m., and will conclude at approximately 3:30 p.m. Participants will meet at Oregon Department of Forestry Office (ODF) located on N. Fork Road and Highway 22 in Mehema, Oregon. Attendance by the public must be arranged one week in advance with the Designated Federal Official listed below.

The Opal Creek Wilderness and Opal Creek Scenic Recreation Area Act of 1996 (Opal Creek Act) (Pub. L. 104-208) directed the Secretary of Agriculture to establish the Opal Creek Scenic Recreation Area Advisory Council. The Advisory Council is comprised of thirteen members representing state, county and city governments, and representatives of various organizations, which include mining industry, environmental organizations, inholders in Opal Creek Scenic Recreation Area, economic development, Indian tribes, adjacent landowners and recreation interests. The council provides advice to the Secretary of Agriculture on preparation of a comprehensive Opal Creek Management Plan for the SRA, and consults on a periodic and regular basis on the management of the area. Tentative itinerary includes visiting and discussing current issues at Pearl Creek Guard Station about restoration, popular dispersed sites and Three Pools about use issues, and SRA entrance about transportation planning and signing.

A public comment period is tentatively scheduled to begin at 3 p.m. at the ODF office. Time allotted for individual presentations will be limited to 3 minutes. Written comments are encouraged, particularly if the material cannot be presented within the time limits of the comment period. Written comments may be submitted prior to the July 23rd by sending them to Designated Federal Official Paul Matter at the address given below.

FOR FURTHER INFORMATION CONTACT: For more information regarding this meeting, contact Designated Federal Official Paul Matter; Willamette National Forest, Detroit Ranger District, HC 73 Box 320, Mill City, OR 97360; (503) 854-3366.

Dated: June 29, 2005.
Dallas J. Emch,
Forest Supervisor

[FR Doc. 05-13220 Filed 7-5-05; 8:45 am]

BILLING CODE 3410-11-M